DEPARTMENT OF JUSTICE

Antitrust Division

Notice Pursuant to the National Cooperative Research and Production Act of 1993—Microelectronics and Computer Technology Corporation (“MCC”)

Notice is hereby given that, on March 13, 2000, pursuant to section 6(a) of the National Cooperative Research and Production Act of 1993, 15 U.S.C. 4301 et seq. (“the Act”), Microelectronics and Computer Technology Corporation (“MCC”) has filed written notification simultaneously with the Attorney General and the Federal Trade Commission disclosing changes in its membership status and planned activities. The notifications were filed for the purpose of extending the Act's provisions limiting the recovery of antitrust plaintiffs to actual damages under specified circumstances. Specifically, Nokia Research Center, Helsinki, FINLAND; Schlumberger, San Jose, CA; Southwestern Bell, St. Louis, MO; and Telefonica, Madrid, SPAIN have been dropped as parties to this venture.

No other changes have been made in either the membership or planned activity of the group research project. Membership in this group research project remains open, and Microelectronics and Computer Technology Corporation (“MCC”) intends to file additional written notification disclosing all changes in membership.

On December 21, 1984, Microelectronics and Computer Technology Corporation (“MCC”) filed its original notification pursuant to Section 6(a) of the Act. The Department of Justice published a notice in the Federal Register pursuant to Section 6(b) of the Act on January 17, 1985 (50 FR 2633).

The last notification was filed with the Department on June 16, 1999. A notice was published in the Federal Register pursuant to Section 6(b) of the Act on December 2, 1999 (64 FR 67590).

Constance K. Robinson,
Director of Operations, Antitrust Division.

[FR Doc. 00-16474 Filed 6-28-00; 8:45 am]

BILLING CODE 4401-11-M